DEPARTMENT OF HEALTH AND HUMAN SERVICES

National Institutes of Health

Prospective Grant of Exclusive License: Methods for Treating Inflammatory Bowel Disease Using Cholera Toxin B Subunit

AGENCY: National Institutes of Health, Public Health Service, DHHS.

ACTION: Notice.

SUMMARY: This is notice, in accordance with 35 U.S.C. 209(c)(1) and 37 CFR 404.7(a)(1)(i), that the National Institutes of Health, Department of Health and Human Services, is contemplating the grant of an exclusive patent license to practice the inventions embodied in U.S. Patent Application 10/129,907, filed May 10, 2002 [DHHS Ref. E-263-1999/0-US-03], entitled “Methods for treating inflammatory bowel disease using cholera toxin B subunit,” to SBL Vaccin AB, which is located in Stockholm, Sweden. The patent rights in these inventions have been assigned to the United States of America.

The prospective exclusive license territory may be worldwide and the field of use may be limited to the use of cholera toxin B as a therapeutic treatment of inflammatory bowel disease, specifically Crohn's disease.

DATES: Only written comments and/or applications for a license which are received by the NIH Office of Technology Transfer on or before June 14, 2005, will be considered.

ADDRESSES: Requests for copies of the patent application, inquiries, comments, and other materials relating to the contemplated exclusive license should be directed to: Michelle A. Booden, Ph.D., Technology Licensing Specialist, Office of Technology Transfer, National Institutes of Health, 6011 Executive Boulevard, Suite 325, Rockville, MD 20852-3804; telephone: (301) 451-7337; Facsimile: (301) 402-0220; e-mail: boodenm@mail.nih.gov.

SUPPLEMENTARY INFORMATION: The technology describes a method of treating or preventing inflammatory bowel disease by administrating cholera toxin B subunit (CT-B). Specifically, the patent application discloses administrating CT-B as a method for treating and preventing Crohn's disease (CD) and Ulcerative Colitis (UC) as well as a method for treating and preventing inflammation and/or autoimmune disorders mediated by increased interferon gamma (INF-γ) and or interleukin 12 (IL-12).

The prospective exclusive license will be royalty bearing and will comply with the terms and conditions of 35 U.S.C. 209 and 37 CFR 404.7. The prospective exclusive license may be granted unless within sixty (60) days from the date of this published notice, the NIH receives written evidence and argument that establishes that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: April 6, 2005.
Steven M. Ferguson,
Director, Division of Technology Development and Transfer, Office of Technology Transfer, National Institutes of Health.

[FR Doc. 05-7543 Filed 4-14-05; 8:45 am]

BILLING CODE 4140-01-P